DEPARTMENT OF ENERGY

Federal Energy Regulatory Commission

Combined Notice of Filings #1

Take notice that the Commission received the following electric corporate filings:

Docket Numbers: EC16-116-000.

Applicants: Weyerhaeuser NR Company, International Paper Company.

Description: Supplement to May 6, 2016 Application of Weyerhaeuser NR Company, et al. under Section 203 for Disposition and Consolidation of Jurisdictional Facilities, et al.

Filed Date: 6/22/16.

Accession Number: 20160622-5187.

Comments Due: 5 p.m. ET 07/5/16.

Docket Numbers: EC16-133-000.

Applicants: North Star Solar PV LLC.

Description: Application for Authorization of Transaction of North Star Solar PV LLC under Section 203 of the Federal Power Act.

Filed Date: 6/23/16.

Accession Number: 20160623-5072.

Comments Due: 5 p.m. ET 7/14/16.

Take notice that the Commission received the following exempt wholesale generator filings:

Docket Numbers: EG16-121-000.

Applicants: North Star Solar PV LLC.

Description: Notice of Self-Certification of Exempt Wholesale Generator Status of North Star Solar PV LLC.

Filed Date: 6/23/16.

Accession Number: 20160623-5065.

Comments Due: 5 p.m. ET 7/14/16.

Take notice that the Commission received the following electric rate filings:

Docket Numbers: ER16-1085-001.

Applicants: California Independent System Operator Corporation.

Description: Compliance filing: 20160623 Filing in Compliance with June 2, 2016 Order—DERP to be effective 6/3/2016.

Filed Date: 6/23/16.

Accession Number: 20160623-5119.

Comments Due: 5 p.m. ET 7/14/16.

Docket Numbers: ER16-1310-000.

Applicants: Wisconsin Public Service Corporation.

Description: Report Filing: WPSC Refund Report Filing to be effective N/A.

Filed Date: 6/23/16.

Accession Number: 20160623-5095.

Comments Due: 5 p.m. ET 7/14/16.

Docket Numbers: ER16-1372-001.

Applicants: Nevada Power Company.

Description: Compliance filing: Rate Schedule No. 117 Compliance—Effective Date to be effective 6/3/2016.

Filed Date: 6/23/16.

Accession Number: 20160623-5116.

Comments Due: 5 p.m. ET 7/14/16.

Docket Numbers: ER16-1535-001.

Applicants: Tampa Electric Company.

Description: Tariff Amendment: Amendatory Emergency Interchange Service Schedule A&B-2016 (Bundled) to be effective 5/1/2016.

Filed Date: 6/23/16.

Accession Number: 20160623-5110.

Comments Due: 5 p.m. ET 7/14/16.

Docket Numbers: ER16-1750-002.

Applicants: Eastern Shore Solar LLC.

Description: Tariff Amendment: Supplement to Application for Market-Based Rate Authority to be effective 7/19/2016.

Filed Date: 6/23/16.

Accession Number: 20160623-5147.

Comments Due: 5 p.m. ET 7/14/16.

Docket Numbers: ER16-1752-001.

Applicants: Americhoice Energy OH, LLC.

Description: Tariff Amendment: Americhoice Energy OH Market Based Rate Tariff to be effective 6/23/2016.

Filed Date: 6/23/16.

Accession Number: 20160623-5140.

Comments Due: 5 p.m. ET 7/14/16.

Docket Numbers: ER16-1753-001.

Applicants: Americhoice Energy IL, LLC.

Description: Tariff Amendment: Americhoice Energy IL, LLC Market Based Rate Tariff to be effective 6/23/2016.

Filed Date: 6/23/16.

Accession Number: 20160623-5137.

Comments Due: 5 p.m. ET 7/14/16.

Docket Numbers: ER16-1754-001.

Applicants: Americhoice Energy PA, LLC.

Description: Tariff Amendment: Americhoice Energy, PA LLC, Market Based Rate Tariff to be effective 6/23/2016.

Filed Date: 6/23/16.

Accession Number: 20160623-5141.

Comments Due: 5 p.m. ET 7/14/16.

Docket Numbers: ER16-1990-000.

Applicants: North Star Solar PV LLC.

Description: Baseline eTariff Filing: Baseline New to be effective 8/22/2016.

Filed Date: 6/23/16.

Accession Number: 20160623-5061.

Comments Due: 5 p.m. ET 7/14/16.

Docket Numbers: ER16-1991-000.

Applicants: Northern States Power Company, a Minnesota corporation.

Description: § 205(d) Rate Filing: 2016-6-23 Dean Lake SS Const Agrmt to be effective 8/24/2016.

Filed Date: 6/23/16.

Accession Number: 20160623-5109.

Comments Due: 5 p.m. ET 7/14/16.

Docket Numbers: ER16-1992-000.

Applicants: Southwest Power Pool, Inc.

Description: § 205(d) Rate Filing: 2041R5 Kansas City Board of Public Utilities PTP Agreement to be effective 9/1/2016.

Filed Date: 6/23/16.

Accession Number: 20160623-5112.

Comments Due: 5 p.m. ET 7/14/16.

Docket Numbers: ER16-1993-000.

Applicants: CleanChoice Energy, Inc.

Description: § 205(d) Rate Filing: CleanChoice Energy, Inc. MBR Notice of Succession Filing to be effective 6/23/2016.

Filed Date: 6/23/16.

Accession Number: 20160623-5136.

Comments Due: 5 p.m. ET 7/14/16.

Docket Numbers: ER16-1994-000.

Applicants: Southwest Power Pool, Inc.

Description: § 205(d) Rate Filing: 1276R11 KCPL NITSA NOA to be effective 9/1/2016.

Filed Date: 6/23/16.

Accession Number: 20160623-5154.

Comments Due: 5 p.m. ET 7/14/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 23, 2016.
Nathaniel J. Davis, Sr.,
Deputy Secretary.

[FR Doc. 2016-15387 Filed 6-28-16; 8:45 am]

BILLING CODE 6717-01-P